DEPARTMENT OF AGRICULTURE

Forest Service

Superior National Forest, Gunflint, Kawishiwi, LaCroix, and Tofte Ranger Districts; Minnesota; Boundary Waters Canoe Area Wilderness Non-Native Invasive Plant Management Project

AGENCY: Forest Service, USDA.

ACTION: Notice of intent to prepare an environmental impact statement.

SUMMARY: The Superior National Forest will prepare an environmental impact statement for the Boundary Waters Canoe Area Wilderness (BWCAW) Non-native Invasive Plant (NNIP) Management Project. In order to maintain and improve aquatic and terrestrial wildlife habitat, to maintain healthy, resilient native plant communities, and to maintain the character and ecological integrity of the BWCAW, the Superior National Forest proposes to use an integrated pest management approach to treat NNIP, beginning with treatments on a total of approximately 13 acres of invasive plants at sites scattered across the wilderness and possibly expanding up to 20 acres over the next 10 years. The proposed activities would eradicate or control existing NNIP populations and respond rapidly to new infestations in order to prevent the further spread of NNIP.

DATES: Comments concerning the scope of the analysis must be received by May 23, 2011. The draft environmental impact statement is expected September 2011 and the final environmental impact statement is expected January 2012.

ADDRESSES: Send written comments to Jim Sanders, Forest Supervisor, Attn: BWCAW NNIP Management Project, 318 Forestry Rd., Aurora, MN 55705. Comments may also be sent via e-mail to comments-eastern-superior-laurentian@fs.fed.us, or via facsimile to (218) -229-8821.

FOR FURTHER INFORMATION CONTACT: Jack Greenlee, Project Leader, at (218) 229-8817, or jackgreenlee@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this project is to maintain and improve aquatic and terrestrial wildlife habitat, to maintain healthy, resilient native plant communities, and to maintain the character and ecological integrity of the BWCAW. To accomplish these objectives, there is a need to implement an integrated pest management approach that eradicates or controls existing NNIP infestations and provides for a rapid response to new infestations.

Proposed Action

The proposed action would implement NNIP management activities, including manual and herbicide control methods, over a ten-year period in the BWCAW. A total of approximately 13 acres of NNIP infestations at approximately 1,000 known sites scattered across the BWCAW would be controlled or eradicated using either manual methods or herbicides. To allow for a rapid response to new infestations, up to 7 additional acres could be treated. To protect water resources, visitor safety, and the environment, spot application methods using low use-rate, low toxicity, short persistence herbicides would be employed. Most NNIP infestations occur on campsites, portages or trails, along shorelines, at old resort/cabin sites, or in burned areas. Manual treatments would be accomplished by pulling, digging, or cutting the plants. Treatments would generally occur during the growing season, from late May to mid-October.

Responsible Official

Superior National Forest Supervisor.

Nature of Decision To Be Made

The decision to be made is whether or not to implement an integrated pest management strategy to control non-native invasive plants in the BWCAW. The decision will include:

• What actions will be approved to address the purpose and need.

• Where will those actions take place.

• Are any mitigation measures needed to further limit effects of approved actions.

Scoping Process

This notice of intent initiates the scoping process, which guides the development of the environmental impact statement. Written comments will be solicited through a notice that will be sent to interested individuals and organizations. Further details about the project, including maps and appendices, are available on the Superior National Forest Web site. Visit the Web site at http://www.fs.usda.gov/superior and see “Projects” under “Land and Resources Management”. Look for “BWCAW Non-native Invasive Plant Management Project”.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however anonymous comments will not provide the respondent with standing to participate in subsequent administrative review or judicial review.

Dated: April 15, 2011.
James W. Sanders,
Forest Supervisor.

[FR Doc. 2011-9675 Filed 4-20-11; 8:45 am]

BILLING CODE 3410-11-P